DEPARTMENT OF COMMERCE

International Trade Administration

[A-570-967]

Aluminum Extrusions From the People's Republic of China: Final Results of Antidumping Duty Administrative Review; 2013-2014

AGENCY: Enforcement and Compliance, International Trade Administration, Department of Commerce.

SUMMARY: The Department of Commerce (the Department) is conducting an administrative review of the antidumping duty order on aluminum extrusions from the People's Republic of China (PRC).¹ The period of review (POR) is May 1, 2013, through April 30, 2014. These final results cover 39 companies for which an administrative review was initiated and not rescinded.² The Department selected the following companies as mandatory respondents: Guangzhou Jangho Curtain Wall System Engineering Co., Ltd. and Jangho Curtain Wall Hong Kong Ltd. (collectively, Jangho), Union Industry (Asia) Co., Ltd. (Union), and Guang Ya Aluminium Industries Co., Ltd., Foshan Guangcheng Aluminium Co., Ltd., Kong Ah International Company Limited, and Guang Ya Aluminium Industries (Hong Kong) Ltd. (collectively, Guang Ya Group); Guangdong Zhongya Aluminium Company Limited, Zhongya Shaped Aluminium (HK) Holding Limited, and Karlton Aluminum Company Ltd. (collectively, Zhongya); and Xinya Aluminum & Stainless Steel Product Co., Ltd. (Xinya) (collectively, Guang Ya Group/Zhongya/Xinya).³

¹ The Department initiated this review on June 27, 2014. See Initiation of Antidumping and Countervailing Duty Administrative Reviews, 79 FR 36462 (June 27, 2014) (Initiation Notice).

² This administrative review initially covered 155 companies. See Initiation Notice. However, on January 29, 2015, the Department rescinded this review with respect to 116 companies. See Aluminum Extrusions From the People's Republic of China: Partial Rescission of Antidumping Duty Administrative Review, 80 FR 4868 (January 29, 2015).

³ In prior segments of this proceeding the Department found that the Guang Ya Group, Zhongya, and Xinya were affiliated and should be treated as a single entity. See, e.g., Aluminum Extrusions From the People's Republic of China: Final Results of Antidumping Duty Administrative Review and Rescission, in Part, 2010/12, 79 FR 96 (January 2, 2014) and Aluminum Extrusions From the People's Republic of China: Final Results of Antidumping Duty Administrative Review; 2012-2013, 79 FR 78784 (December 31, 2014) (2012-2013 Final Results).

The Department finds for these final results that Union made sales of subject merchandise at less than normal value. In addition, the Department determines that Jangho, Guang Ya Group/Zhongya/Xinya, and 15 other companies subject to this review did not demonstrate eligibility for a separate rate, and, accordingly, are to be considered part of the PRC-wide entity. We also determine for these final results that one company, Xin Wei Aluminum Company Limited (Xin Wei), had no shipments.

DATES: Effective Date: December 1, 2015.

FOR FURTHER INFORMATION CONTACT: Deborah Scott, Mark Flessner, or Robert James, AD/CVD Operations, Office VI, Enforcement and Compliance, International Trade Administration, Department of Commerce, 1401 Constitution Avenue NW., Washington, DC 20230; telephone: (202) 482-2657, (202) 482-6312 or (202) 482-0649, respectively.

SUPPLEMENTARY INFORMATION:

Background

On June 8, 2015, the Department published the Preliminary Results of this administrative review.⁴ At that time, we invited interested parties to comment on the Preliminary Results. On June 10, 2015, we received comments from the Aluminum Extrusions Fair Trade Committee (Petitioner) on the calculation of the margin for Union.⁵ On July 8, 2015, we received case briefs from Petitioner ⁶ and Zhongya.⁷ On July 15, 2015, we received rebuttal briefs from Jangho ⁸ and Petitioner.⁹ On September 25, 2015, the Department extended the deadline for the final results until November 5, 2015.¹⁰

⁴ See Aluminum Extrusions From the People's Republic of China: Preliminary Results of Antidumping Duty Administrative Review; 2013-2014, 80 FR 32347 (June 8, 2015) (Preliminary Results) and the accompanying memorandum from Christian Marsh, Deputy Assistant Secretary for Antidumping and Countervailing Duty Operations, to Ronald K. Lorentzen, Acting Assistant Secretary for Enforcement and Compliance, entitled, “Decision Memorandum for Preliminary Results of Antidumping Duty Administrative Review: Aluminum Extrusions from the People's Republic of China; 2013-2014,” dated June 1, 2015 (Preliminary Decision Memorandum).

⁵ See letter from Petitioner to the Secretary of Commerce entitled, “Aluminum Extrusions from the People's Republic of China: Comments on Union's Preliminary Margin Calculations,” dated June 10, 2015.

⁶ See letter from Petitioner to the Secretary of Commerce entitled, “Aluminum Extrusions from the People's Republic of China: Case Brief of the Aluminum Extrusions Fair Trade Committee,” dated July 8, 2015.

⁷ See letter from Zhongya to the Secretary of Commerce entitled, “Aluminum Extrusions from China: Zhongda {sic} Case Brief,” dated July 8, 2015.

⁸ See letter from Jangho to the Secretary of Commerce entitled, “Aluminum Extrusions from the People's Republic of China: Rebuttal Brief: Guangzhou Jangho Curtain Wall System Engineering Co., Ltd. and Jangho Curtain Wall Hong Kong Ltd.,” dated July 15, 2015.

⁹ See letter from Petitioner to the Secretary of Commerce entitled, “Aluminum Extrusions from the People's Republic of China: Rebuttal Brief of the Aluminum Extrusions Fair Trade Committee,” dated July 15, 2015.

¹⁰ See memorandum from Mark Flessner to Christian Marsh, Deputy Assistant Secretary for Antidumping and Countervailing Duty Operations, entitled, “Aluminum Extrusions from the People's Republic of China: Extension of Time Limit for Final Results of Antidumping Duty Administrative Review,” dated September 25, 2015.

Scope of the Order

The merchandise covered by the Order ¹¹ is aluminum extrusions which are shapes and forms, produced by an extrusion process, made from aluminum alloys having metallic elements corresponding to the alloy series designations published by The Aluminum Association commencing with the numbers 1, 3, and 6 (or proprietary equivalents or other certifying body equivalents).¹²

¹¹ See Aluminum Extrusions from the People's Republic of China: Antidumping Duty Order, 76 FR 30650 (May 26, 2011) (Order).

¹² For a complete description of the scope of the Order, see Memorandum from Gary Taverman, Associate Deputy Assistant Secretary for Antidumping and Countervailing Duty Operations, to Paul Piquado, Assistant Secretary for Enforcement and Compliance, entitled, “Aluminum Extrusions from the People's Republic of China: Issues and Decision Memorandum for the Final Results of Antidumping Duty Administrative Review; 2013-2014,” dated concurrently with this notice (Issues and Decision Memorandum).

Imports of the subject merchandise are provided for under the following categories of the Harmonized Tariff Schedule of the United States (HTSUS): 7609.00.00, 7610.10.00, 7610.90.00, 7615.10.30, 7615.10.71, 7615.10.91, 7615.19.10, 7615.19.30, 7615.19.50, 7615.19.70, 7615.19.90, 7615.20.00, 7616.99.10, 7616.99.50, 8479.89.98, 8479.90.94, 8513.90.20, 9403.10.00, 9403.20.00, 7604.21.00.00, 7604.29.10.00, 7604.29.30.10, 7604.29.30.50, 7604.29.50.30, 7604.29.50.60, 7608.20.00.30, 7608.20.00.90, 8302.10.30.00, 8302.10.60.30, 8302.10.60.60, 8302.10.60.90, 8302.20.00.00, 8302.30.30.10, 8302.30.30.60, 8302.41.30.00, 8302.41.60.15, 8302.41.60.45, 8302.41.60.50, 8302.41.60.80, 8302.42.30.1 0, 8302.42.30.15, 8302.42.30.65, 8302.49.60.35, 8302.49.60.45, 8302.49.60.55, 8302.49.60.85, 8302.50.00.00, 8302.60.90.00, 8305.10.00.50, 8306.30.00.00, 8414.59.60.90, 8415.90.80.45, 8418.99.80.05, 8418.99.80.50, 8418.99.80.60, 8419.90.10.00, 8422.90.06.40, 8473.30.20.00, 8473.30.51.00, 8479.90.85.00, 8486.90.00.00, 8487.90.00.80, 8503.00.95.20, 8508.70.00.00, 8515.90.20.00, 8516.90.50.00, 8516.90.80.50, 8517.70.00.00, 8529.90.73.00, 8529.90.97.60, 8536.90.80.85, 8538.10.00.00, 8543.90.88.80, 8708.29.50.60, 8708.80.65.90, 8803.30.00.60, 9013.90.50.00, 9013.90.90.00, 9401.90.50.81, 9403.90.10.40, 9403.90.10.50, 9403.90.10.85, 9403.90.25.40, 9403.90.25.80, 9403.90.40.05, 9403.90.40.10, 9403.90.40.60, 9403.90.50.05, 9403.90.50.10, 9403.90.50.80, 9403.90.60.05, 9403.90.60.10, 9403.90.60.80, 9403.90.70.05, 9403.90.70.10, 9403.90.70.80, 9403.90.80.10, 9403.90.80.15, 9403.90.80.20, 9403.90.80.41, 9403.90.80.51, 9403.90.80.61, 9506.11.40.80, 9506.51.40.00, 9506.51.60.00, 9506.59.40.40, 9506.70.20.90, 9506.91.00.10, 9506.91.00.20, 9506.91.00.30, 9506.99.05.10, 9506.99.05.20, 9506.99.05.30, 9506.99.15.00, 9506.99.20.00, 9506.99.25.80, 9506.99.28.00, 9506.99.55.00, 9506.99.60.80, 9507.30.20.00, 9507.30.40.00, 9507.30.60.00, 9507.90.60.00, and 9603.90.80.50.

The subject merchandise entered as parts of other aluminum products may be classifiable under the following additional chapter 76 subheadings: 7610.10, 7610.90, 7615.19, 7615.20, and 7616.99 as well as under other HTSUS chapters. In addition, fin evaporator coils may be classifiable under HTSUS numbers: 8418.99.80.50 and 8418.99.80.60. While HTSUS subheadings are provided for convenience and customs purposes, the written description of the scope of this Order is dispositive.

Analysis of Comments Received

All issues raised in the case and rebuttal briefs filed by parties in this review are addressed in the Issues and Decision Memorandum, which is incorporated herein by reference. A list of the issues which parties raised, and to which we respond in the Issues and Decision Memorandum, follows as an appendix to this notice. The Issues and Decision Memorandum is a public document and is on file electronically via Enforcement and Compliance's Antidumping and Countervailing Duty Centralized Electronic Service System (ACCESS). ACCESS is available to registered users at http://access.trade.gov and is available to all parties in the Central Records Unit, room B8024 of the main Department of Commerce building. In addition, a complete version of the Issues and Decision Memorandum can be accessed directly on the internet at http://www.trade.gov/enforcement/frn/index.html. The signed Issues and Decision Memorandum and the electronic version of the Issues and Decision Memorandum are identical in content.

Changes Since the Preliminary Results

Based on an analysis of the comments received from interested parties and a review of the record, the Department corrected calculation errors for the final adjusted margin to be applied to Union. For a full explanation, see the Issues and Decision Memorandum at Comment 2. This recalculation of Union's rate affected the rate for other companies; see the section below entitled, “Rate for Non-Examined Companies Which Are Eligible for a Separate Rate.” The Department also reconsidered the necessity of having applied adverse facts available in the Preliminary Results with respect to Jangho and Guang Ya Group/Zhongya/Xinya in light of the Department's recent change of practice concerning the conditional review of the PRC-wide entity.¹³ For additional explanation, see the Issues and Decision Memorandum at “Application of Facts Available and Use of Adverse Inference” and Comments 4 and 5.

¹³ See Antidumping Proceedings: Announcement of Change in Department Practice for Respondent Selection in Antidumping Duty Proceedings and Conditional Review of the Nonmarket Economy Entity in NME Antidumping Duty Proceedings, 78 FR 65963, 65970 (November 4, 2013) (Conditional Review of NME Entity Notice).

Companies Eligible for a Separate Rate

In our Preliminary Results, we determined that 11 companies, plus Union, are eligible for a separate rate.¹⁴ These companies are: Allied Maker Limited; Changzhou Changzheng Evaporator Co., Ltd.; Dongguan Aoda Aluminum Co., Ltd.; Justhere Co., Ltd.; Kam Kiu Aluminium Products Sdn Bhd; Kromet International Inc. (Kromet); Metaltek Group Co., Ltd.; Permasteelisa South China Factory; Permasteelisa Hong Kong Ltd.; Taishan City Kam Kiu Aluminium Extrusion Co., Ltd.; and tenKsolar (Shanghai) Co., Ltd. We received no information since the issuance of the Preliminary Results that provides a basis for reconsideration of this determination. Therefore, the Department continues to find that these 12 companies are eligible for a separate rate.

¹⁴ See Preliminary Results, 80 FR at 32348.

Rate for Non-Examined Companies Which Are Eligible for a Separate Rate

Neither the Tariff Act of 1930, as amended (the Act), nor the Department's regulations address the establishment of the rate applied to individual separate rate companies not selected for examination where the Department limited its examination in an administrative review pursuant to section 777A(c)(2) of the Act. The Department's practice in administrative reviews involving limited selection based on exporters accounting for the largest volumes of trade has been to look to section 735(c)(5) of the Act for guidance, which provides instructions for calculating the all-others rate in a market-economy antidumping investigation. Section 735(c)(5)(A) of the Act instructs the Department to avoid calculating an all-others rate using any rates that are zero, de minimis, or based entirely on facts available in investigations. Section 735(c)(5)(B) of the Act provides that, where all rates are zero, de minimis, or based entirely on facts available, the Department may use “any reasonable method” for assigning an all-others rate.

In the Preliminary Results, we assigned the rate of 32.79 percent, the most recent rate (from the less than fair value investigation) calculated for the non-examined separate rate respondents, to the non-examined separate rate respondents in the instant review.¹⁵ However, we have determined in these Final Results that the methodology used in the Preliminary Results was predicated on the erroneous calculation of a rate of zero for Union. As Union's rate at these Final Results is neither zero nor de minimis, we are applying Union's calculated rate to the non-examined, separate rate companies in accordance with section 735(c)(5) of the Act. For a full explanation, see the accompanying Issues and Decision Memorandum at Comment 3.

¹⁵ Id., at 32349.

Determination of No Shipments

One company remaining under review, Xin Wei, timely submitted a certification indicating that it had no sales, shipments, or entries of subject merchandise during the POR.¹⁶ Consistent with our practice, the Department requested that CBP conduct a query on potential shipments made by Xin Wei during the POR; CBP provided no evidence that contradicted Xin Wei's claim of no shipments. Based on Xin Wei's no-shipment certification and our analysis of the CBP information, in the Preliminary Results we determined that Xin Wei had no shipments during the POR.¹⁷ No party commented on that determination. The Department will issue appropriate instructions to CBP.¹⁸

¹⁶ See letter from Xin Wei to the Secretary of Commerce entitled, “Aluminum Extrusions from the People's Republic of China: Certification of No Sales, Shipments, or Entries,” dated August 26, 2014.

¹⁷ See Preliminary Results, 80 FR at 32349.

¹⁸ See Non-Market Economy Antidumping Proceedings: Assessment of Antidumping Duties, 76 FR 65694, 65695 (October 24, 2011).

PRC-Wide Entity

In the Preliminary Results, the Department determined that the mandatory respondents Jangho and Guang Ya Group/Zhongya/Xinya were not eligible for a separate rate, and, accordingly, were part of the PRC-wide entity.¹⁹ For purposes of these Final Results, the Department continues to find that Jangho and Guang Ya Group/Zhongya/Xinya are not eligible for a separate rate and are part of the PRC-wide entity. For a full explanation, see the Issues and Decision Memorandum at Comments 4 and 5.

¹⁹ See Preliminary Results, 80 FR at 32350.

In addition, 14 companies still subject to these final results are not eligible for separate-rate status because they did not submit separate-rate applications or certifications; those companies are: Aluminicaste Fundicion de Mexico; China Zhongwang Holdings, Ltd.; Classic & Contemporary Inc.; Dongguan Golden Tiger; Dongguan Golden Tiger Hardware Industrial Co., Ltd.; Gold Mountain International Development, Ltd.; Golden Dragon Precise Copper Tube Group, Inc.; Metaltek Metal Industry Co., Ltd.; Nidec Sankyo Singapore Pte. Ltd.; Press Metal International Ltd.; tenKsolar, Inc.; Tianjin Jinmao Import & Export Corp., Ltd.; WTI Building Products, Ltd.; and Zahoqing China Square Industry Limited/Zhaoqing China Square Industry Limited.²⁰ Further, one company still under review, Shenyang Yuanda Aluminium Industry Engineering Co., Ltd., submitted a separate-rate application that did not demonstrate eligibility for a separate rate. As a result, the Department finds for these final results that these 15 companies are also part of the PRC-wide entity. The Department's change in policy regarding conditional review of the PRC-wide entity applies to this administrative review.²¹ Under this policy, the PRC-wide entity will not be under review unless a party specifically requests, or the Department self-initiates, a review of the entity. Because no party requested a review of the PRC-wide entity in this review, the entity is not under review and the entity's rate from the previous administrative review (i.e., 33.28 percent) is not subject to change.²²

²⁰ One company, Zhaoqing New Zhongya Aluminum Co., Ltd. (New Zhongya), was determined to have been succeeded by Guangdong Zhongya Aluminum Company Limited (Guangdong Zhongya) in a changed circumstances review. See Aluminum Extrusions From the People's Republic of China: Final Results of Changed Circumstances Review, 77 FR 54900 (September 6, 2012). Thus, despite the fact that a review was initiated of New Zhongya, it is not being included among these 14 companies because its successor in interest, Guangdong Zhongya, is part of the Guang Ya Group/Zhongya/Xinya single entity.

²¹ See Antidumping Proceedings: Announcement of Change in Department Practice for Respondent Selection in Antidumping Duty Proceedings and Conditional Review of the Nonmarket Economy Entity in NME Antidumping Duty Proceedings, 78 FR 65963, 65970 (November 4, 2013) (Conditional Review of NME Entity Notice).

²² See 2012-2013 Final Results, 79 FR at 78787.

Adjustments for Countervailable Subsidies

Because no mandatory respondent established eligibility for an adjustment under section 777A(f) of the Act for countervailable domestic subsidies, the Department, for these final results, did not make an adjustment pursuant to section 777A(f) of the Act for countervailable domestic subsidies for Union or the separate-rate recipients.²³

²³ See Preliminary Decision Memorandum at 34 and Attachment 1.

Pursuant to section 772(c)(1)(C) of the Act, the Department made an adjustment for countervailable export subsidies. For Union, we made adjustments to its reported U.S. price.²⁴ For the companies eligible for a separate rate, because all of these companies participated in the second countervailing duty administrative review,²⁵ an adjustment has been made based on the countervailable export subsidy found for the non-selected companies in the final results of the second countervailing duty administrative review (or its own calculated rate, in the case of Kromet).²⁶ For a full explanation, see the Issues and Decision Memorandum at Comment 3.

²⁴ See Memorandum from Mark Flessner to the File entitled, “2013-2014 Administrative Review of the Antidumping Duty Order on Aluminum Extrusions from the People's Republic of China: Analysis of the Final Results Margin Calculation for Union Industry (Asia) Co., Ltd.,” dated concurrently with this notice (Union Final Analysis Memorandum).

²⁵ See Aluminum Extrusions From the People]s Republic of China: Final Results of Countervailing Duty Administrative Review; 2012, 79 FR 78788, 78789-90 (December 31, 2014).

²⁶ See Preliminary Decision Memorandum at Attachment 1.

For the PRC-wide entity, since the entity is not currently under review, no adjustments were warranted to its rate, as its rate is not subject to change.²⁷

²⁷ See 2012-2013 Final Results, 79 FR at 78787; see also Conditional Review of NME Entity Notice, 78 FR 65970. As the rate for the PRC-wide entity is not subject to change in the instant review, the margin from the 2012-2013 Final Results that we are applying to the PRC-wide entity in the instant review is net of countervailable domestic and export subsidies.

Final Results of Review

The Department determines that the following weighted-average dumping margins exist for the POR for these final results:

Exporter | Weighted- average dumping margin (%) | Margin adjusted for liquidation and cash deposit purposes ²⁸ (%)
Allied Maker Limited | 86.01 | 85.73
Changzhou Changzheng Evaporator Co., Ltd | 86.01 | 85.73
Dongguan Aoda Aluminum Co., Ltd | 86.01 | 85.73
Justhere Co., Ltd | 86.01 | 85.73
Kam Kiu Aluminium Products Sdn Bhd ²⁹ | 86.01 | 85.73
Kromet International Inc | 86.01 | 85.66
Metaltek Group Co., Ltd | 86.01 | 85.73
Permasteelisa Hong Kong Ltd ³⁰ | 86.01 | 85.73
tenKsolar (Shanghai) Co., Ltd | 86.01 | 85.73
Union Industry (Asia) Co., Ltd | 86.01 | 85.73

²⁸ See the memorandum from Mark Flessner to The File entitled, “Aluminum Extrusions from the People's Republic of China: Export Subsidy Adjustment Memorandum for the Final Results of Antidumping Duty Administrative Review; 2013-2014,” dated concurrently with this notice.

²⁹ Although the Department initiated a review for both Taishan City Kam Kiu Aluminium Extrusion Co., Ltd. and Kam Kiu Aluminium Products Sdn Bhd, it is apparent from the company's separate-rate application that Kam Kiu Aluminium Products Sdn Bhd is the exporter and Taishan City Kam Kiu Aluminium Extrusion Co., Ltd. is a producer only; thus, Kam Kiu Aluminium Products Sdn Bhd is the appropriate party to grant the separate rate status.

³⁰ Although the Department initiated a review for Permasteelisa South China Factory and Permasteelisa Hong Kong Ltd., it is apparent from the company's separate-rate application that Permasteelisa Hong Kong Ltd. is the exporter and Permasteelisa South China Factory is a producer only; thus, Permasteelisa Hong Kong Ltd. is the appropriate party to grant the separate rate status.

Additionally, the Department determines for these final results that the following companies are part of the PRC-wide entity: Jangho (which includes Guangzhou Jangho Curtain Wall System Engineering Co., Ltd. and Jangho Curtain Wall Hong Kong Ltd.); Guang Ya Group/Zhongya/Xinya (which includes Guang Ya Aluminium Industries Co., Ltd.; Foshan Guangcheng Aluminium Co., Ltd.; Kong Ah International Company Limited; Guang Ya Aluminium Industries (Hong Kong) Ltd.; Guangdong Zhongya Aluminium Company Limited; Zhongya Shaped Aluminium (HK) Holding Limited; Karlton Aluminum Company Ltd.; and Xinya Aluminum & Stainless Steel Product Co., Ltd.); Aluminicaste Fundicion de Mexico; China Zhongwang Holdings, Ltd.; Classic & Contemporary Inc.; Dongguan Golden Tiger; Dongguan Golden Tiger Hardware Industrial Co., Ltd.; Gold Mountain International Development, Ltd.; Golden Dragon Precise Copper Tube Group, Inc.; Metaltek Metal Industry Co., Ltd.; Nidec Sankyo Singapore Pte. Ltd.; Press Metal International Ltd.; Shenyang Yuanda Aluminium Industry Engineering Co., Ltd.; tenKsolar, Inc.; Tianjin Jinmao Import & Export Corp., Ltd.; WTI Building Products, Ltd.; and Zahoqing China Square Industry Limited/Zhaoqing China Square Industry Limited. The rate previously established for the PRC-wide entity in the previous administrative review is 33.28 percent.³¹

³¹ See 2012-2013 Final Results, 79 FR at 78787.

Assessment

Pursuant to section 751(a)(2)(A) of the Act and 19 CFR 351.212(b), the Department will determine, and U.S. Customs and Border Protection (CBP) shall assess, antidumping duties on all appropriate entries. The Department intends to issue assessment instructions to CBP 15 days after the date of publication of the final results of review in the Federal Register. Consistent with the Department's assessment practice in NME cases, for entries that were not reported in the U.S. sales databases submitted by companies individually examined during this review, the Department will instruct CBP to liquidate such entries at the PRC-wide rate.³² In addition, if the Department determines that an exporter under review had no shipments of subject merchandise, any suspended entries that entered under the exporter's case number (i.e., at that exporter's rate) will be liquidated at the PRC-wide rate.³³

³² See Non-Market Economy Antidumping Proceedings; Assessment of Antidumping Duties, 76 FR 65694 (October 24, 2011) (Assessment Practice Refinement).

³³ Id.

For each individually-examined respondent whose weighted-average dumping margin is above de minimis (i.e., 0.50 percent) in the final results of this review, the Department will calculate importer-specific ad valorem duty assessment rates based on the ratio of the total amount of dumping calculated for the importer's examined sales to the total entered value of those same sales, in accordance with 19 CFR 351.212(b)(1). We will instruct CBP to assess antidumping duties on all appropriate entries covered by this review where an importer- (or customer-) specific assessment rate calculated in the final results of this review is above de minimis. Where either the respondent's weighted-average dumping margin is zero or de minimis, or an importer- (or customer-) specific assessment rate is zero or de minimis, the Department will instruct CBP to liquidate the appropriate entries without regard to antidumping duties. For the other companies eligible for a separate rate, the Department will instruct CBP to assess antidumping duties on the company's entries of subject merchandise at the rates listed above in the section “Final Results of Review.”

Cash Deposit Requirements

The following cash deposit requirements will be effective upon publication of the final results of this administrative review for all shipments of the subject merchandise from the PRC entered, or withdrawn from warehouse, for consumption on or after the publication date, as provided for by section 751(a)(2)(C) of the Act: (1) for Union and the other companies eligible for a separate rate, the cash deposit rate will that listed above in the section “Final Results of Review”; (2) for previously investigated or reviewed PRC and non-PRC exporters not listed above that have a separate rate, the cash deposit rate will continue to be the exporter-specific rate published for the most recently completed segment of this proceeding in which the exporter was reviewed; (3) for all PRC exporters of subject merchandise which have not been found to be entitled to a separate rate, the cash deposit rate will be that established for the PRC-wide entity of 33.28 percent;³⁴ and (4) for all non-PRC exporters of subject merchandise which have not received their own rate, the cash deposit rate will be the rate applicable to the PRC producer or exporter that supplied that non-PRC exporter with the subject merchandise. The deposit requirements, when imposed, shall remain in effect until further notice.

³⁴ See 2012-2013 Final Results, 79 FR at 78787.

Disclosure

The Department intends to disclose to the parties the calculations performed for these final results within five days of the date of publication of this notice in accordance with 19 CFR 351.224(b).

Notification to Importers

This notice serves as a final reminder to importers of their responsibility under 19 CFR 351.402(f)(2) to file a certificate regarding the reimbursement of antidumping duties and/or countervailing duties prior to liquidation of the relevant entries during this POR. Failure to comply with this requirement could result in the Department's presumption that reimbursement of antidumping duties and/or countervailing duties occurred and the subsequent assessment of doubled antidumping duties.

Administrative Protective Order Notification to Interested Parties

This notice serves as the only reminder to parties subject to administrative protective order (APO) of their responsibility concerning the disposition of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

Notification to Interested Parties

This administrative review and notice are issued and published in accordance with sections 751(a)(1) and 777(i)(1) of the Act and 19 CFR 351.213(h).

Dated: November 20, 2015.
Paul Piquado,
Assistant Secretary for Enforcement and Compliance.

Appendix—List of Issues Raised in Case and Rebuttal Briefs

Summary

Background

Application of Facts Available and Use of Adverse Inference

Discussion of the Issues

Issue 1: Collapsing of Zhongya

Issue 2: Improper Calculation of Union's Dumping Margin

Issue 3: Assignment of Union's Revised Dumping Margin to the Separate Rate Respondents

Issue 4: Use of Union's Recalculated Margin as the AFA Rate

Issue 5: Revision of the PRC-Wide Rate to Reflect Union's Recalculated Dumping Margin

Conclusion

[FR Doc. 2015-30502 Filed 11-30-15; 8:45 am]

BILLING CODE 3510-DS-P